DEPARTMENT OF STATE

[Public Notice 8106]

U.S. Department of State Advisory Committee on Private International Law (ACPIL): Notice of Public Meeting of the Study Group on the Hague Convention on Choice of Court Agreements

The Office of the Assistant Legal Adviser for Private International Law, Department of State, hereby gives notice of a public meeting, to be conducted exclusively by teleconference, of the Study Group on the Hague Convention on Choice of Court Agreements. The Study Group will convene by conference call to discuss a new version of draft federal implementing legislation that will be circulated to participants prior to the meeting. The new version differs from earlier draft texts in two key respects: (1) The new version adopts a shorter form; and (2) the new version does not contemplate parallel federal and state implementing legislation. The new version has been prepared for consideration as a potential alternative to the earlier texts. Those earlier texts remain under consideration but to date have not achieved sufficient support. The purpose of the public meeting is to obtain comments on the new version. This is not a meeting of the full Advisory Committee.

Time: The teleconference will take place on Friday, January 4, 2013 at 1:00 p.m. EST and is tentatively scheduled to last until 4:00 p.m. EST.

Public Participation: This meeting is open to the public. Dial-in information and the draft legislation will be sent to those individuals who advise the Office of Private International Law that they wish to participate in the teleconference. Those who plan to participate are requested to email or phone Tricia Smeltzer (smeltzertk@state.gov, 202-776-8423) or Niesha Toms (tomsnn@state.gov, 202-776-8420) before December 28 and provide your name, affiliation, and email address.

Dated: November 29, 2012.
Keith Loken,
Assistant Legal Adviser, Office of Private International Law, Office of the Legal Adviser.

[FR Doc. 2012-29506 Filed 12-5-12; 8:45 am]

BILLING CODE 4710-08-P